DEPARTMENT OF DEFENSE

Office of the Secretary

[Transmittal No. 24-67]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-67, Policy Justification, and Sensitivity of Technology.

Dated: November 14, 2025.
Aaron T. Siegel,
Alternate OSD Federal Register Liaison Officer, Department of Defense.

BILLING CODE 6001-FR-P

BILLING CODE 6001-FR-C

Transmittal No. 24-67

Notice of Proposed Issuance of Letter of Offer Pursuant to Section 36(b)(1) of the Arms Export Control Act, as amended

(i) Prospective Purchaser: Government of Finland

(ii) Total Estimated Value:

Major Defense Equipment * | $58 million
Other | $12 million
TOTAL | $70 million

(iii) Description and Quantity or Quantities of Articles or Services under Consideration for Purchase: Foreign Military Sales (FMS) case FI-B-VBG was below congressional notification threshold at $.97 million (no Major Defense Equipment (MDE)) and included technical data/reports; U.S. Government technical assistance; incidental travel; transportation; Precision Guidance Kit (PGK) spare parts; equipment training; and related elements of logistics and program support. The Government of Finland has requested the case be amended to include five thousand five hundred (5,500) M1156A1 PGK multi-option fuzes. This amendment will push the current case above the MDE notification threshold and thus requires notification of the entire case.

Major Defense Equipment (MDE):

Five thousand five hundred (5,500) M1156A1 PGK multi-option fuzes

Non-Major Defense Equipment:

The following non-MDE items will also be included: technical data/reports; U.S. Government technical assistance; incidental travel; transportation; PGK spare parts; equipment training; ancillary items; compatibility testing; firing tables; integration kits, antennas; key loaders; precision-guided munition simulator; technical assistance; and other related elements of logistics and program support.

(iv) Military Department: Army (FI-B-VBG)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 19, 2024

* As defined in Section 47(6) of the Arms Export Control Act.

POLICY JUSTIFICATION

Finland—M1156A1 Precision Guidance Kits

The Government of Finland has requested to buy five thousand five hundred (5,500) M1156A1 Precision Guidance Kit (PGK) multi-option fuzes that will be added to a previously-implemented case whose value was under the congressional notification threshold. The original Foreign Military Sales (FMS) case, valued at $.97 million, included technical data/reports; U.S. Government technical assistance; incidental travel; transportation; PGK spare parts; equipment training; and related elements of logistics and program support. This notification includes the original aforementioned items and adds five thousand five hundred (5,500) M1156A1 PGK multi-option fuzes. The following non-MDE items will also be included: ancillary items; compatibility testing; firing tables; integration kits; antennas; key loaders; precision-guided munition simulator; technical assistance; technical data/reports; and other related elements of logistics and program support. The estimated total program cost is $70 million.

This proposed sale will support the foreign policy goals and national security objectives of the United States by improving the security of a NATO Ally that is an important force for political stability and economic progress in Europe.

The proposed sale will improve Finland's capability to meet current and future threats and enhance its interoperability with U.S. and other allied forces. This proposed sale will enhance Finland's artillery and mid-range fire capability. Finland will have no difficulty absorbing this equipment into its armed forces.

The proposed sale of this equipment and support will not alter the basic military balance in the region.

The principal contractor will be Northrop Grumman Innovation Systems, located in Dulles, VA. The purchaser typically requests offsets. Any offset agreement will be defined in negotiations between the purchaser and the contractor.

Implementation of this proposed sale will not require the assignment of any additional U.S. Government or contractor representatives to Finland.

There will be no adverse impact on U.S. defense readiness as a result of this proposed sale.

Transmittal No. 24-67

Notice of Proposed Issuance of Letter of Offer Pursuant to Section 36(b)(1) of the Arms Export Control Act

Annex Item No. vii

(vii) Sensitivity of Technology:

1. The M1156A1 Precision Guidance Kit (PGK) is a cannon artillery fuze which uses the Global Positioning System to increase the delivery accuracy of standard 155 mm high explosive ammunition. The NA37 M1156A1 includes M-code capability. It is also a height-of-burst fuze in that it uses a proximity sensor to cause the round to burst in the air over the enemy, increasing lethality.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Finland can provide substantially the same degree of protection for the sensitive technology being released as the U.S. Government. This sale is necessary in furtherance of the U.S. foreign policy and national security objectives outlined in the Policy Justification.

5. All defense articles and services listed in this transmittal have been authorized for release and export to the Government of Finland.

[FR Doc. 2025-20144 Filed 11-17-25; 8:45 am]

BILLING CODE 6001-FR-P